DEPARTMENT OF HOMELAND SECURITY

Coast Guard

33 CFR Part 100

[CGD07-03-151]

RIN 1625-AA08

Special Local Regulations; 2003 Holiday Boat Parade of the Palm Beaches, Riviera Beach, FL

AGENCY: Coast Guard, DHS.

ACTION: Temporary final rule.

SUMMARY: Temporary special local regulations are being established for the 2003 Holiday Boat Parade in Riviera Beach, Florida. The event will be held on December 6, 2003, on the waters of the Intracoastal Waterway staging in the Lake Worth turning basin southeast of Peanut Island, and proceeding north from Lake Worth South Section Marker 1 and to Jonathan's Landing Marina, Lake Worth Creek Marker 19. These regulations exclude non-participant vessels from the regulated area, which includes the staging area and the parade route, and are needed to provide for the safety of life on navigable waters during the event.

DATES: These regulations are effective from 6 p.m. until 9 p.m. on December 6, 2003.

ADDRESSES: Documents indicated in this preamble as being available in the docket are part of [CGD07-03-151] and are available for inspection or copying at Coast Guard Group Miami, 100 MacArthur Causeway, Miami Beach, Florida, 33139 between 8 a.m. and 4 p.m., Monday through Friday, except Federal holidays.

FOR FURTHER INFORMATION CONTACT: BMC Vaughn, Coast Guard Group Miami, Florida at (305) 535-4317.

SUPPLEMENTARY INFORMATION:

Good Cause

We did not publish a notice of proposed rulemaking (NPRM) for this regulation. Under 5 U.S.C. 553(b)(B), the Coast Guard finds that good cause exists for not publishing an NPRM. Publishing an NPRM would be unnecessary and contrary to public safety interests. These regulations are needed to minimize danger to the public resulting from numerous spectator and participant craft in close proximity to each other around the staging area and parade route. The event will be held on Saturday December 6, 2003. There is not sufficient time to allow for a notice and comment period, prior to the event. For the safety concerns noted, it is in the public interest to have these regulations in effect during the event. In addition, advance notifications will be made via marine information broadcasts.

For the same reasons, the Coast Guard finds that good cause exists for making this rule effective less than 30 days after publication in the Federal Register.

Background and Purpose

The 2003 Holiday Boat Parade of the Palm Beaches is a nighttime parade of approximately 60 pleasure boats decorated with holiday lights. These boats range in length from 15 feet to 50 feet. It is anticipated that approximately 200 spectator craft will view the parade. The parade will form in a staging area located within the Lake Worth turning basin on the southeast side of Peanut Island and encompassing all waters within the turning basin west of a line connecting Marker 12 on the north side of the turning basin and Marker 13 on the south side of the turning basin. The parade will then commence and proceed north from Lake Worth South Section Marker 1 on the Intracoastal Waterway (ICW) to Jonathan's Landing Marina at Lake Worth Creek Marker 19, where the parade will disperse. The regulated area includes the staging area and the parade route.

Discussion of Rule

The special local regulations for this event prohibit non-participant vessels from entering the regulated area, which includes the staging area and the parade route.

The staging area encompasses all waters within the Lake Worth turning basin on the southeast side of Peanut Island west of a line connecting Lake Worth Inlet Marker 12 on the north side of the turning basin and Marker 13 on the south side of the turning basin. No anchoring is permitted in the staging area.

The parade route encompasses the Intracoastal Waterway from Lake Worth South Section Marker 1 to Lake Worth Creek Marker 19. During transit of the parade, these regulations prohibit non-participating vessels from approaching within 500 feet ahead of the lead parade vessel, 500 feet astern of the last participating vessel, or within 50 feet on either side of the outboard parade vessels in the regulated area, unless authorized by the Coast Guard patrol commander.

Regulatory Evaluation

This proposal is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). This regulation will have a minimal impact on non-participant and non-spectator vessels due to the normally low volume of vessel traffic on the ICW during this time this rule is effective. Moreover, this rule is effective for only 3 hours, it regulates only the waters immediately surrounding the parade vessels, and moves with the parade vessels and should therefore have a minimal impact on non-participant and non-spectator vessels.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners or operators of vessels intending to transit or anchor in a portion of the regulated area from 6 p.m. to 9 p.m. on December 6, 2003. This rule will not have a significant economic impact on a substantial number of small entities for the following reasons. This rule is for a highly publicized event and will be in effect for only three hours late in the day when vessel traffic is minimal. Any traffic that needs to pass through the regulated area will be allowed to pass with the permission of the Coast Guard patrol commander once the parade participants have moved further along the parade route.

Assistance for Small Entities

Under section 213(a) of the Small Business Regulatory Enforcement Fairness Act of 1996 (Pub. L. 104-121), we offer to assist small entities in understanding the rule so that they can better evaluate its effects on them and participate in the rulemaking process. Small businesses may contact the person listed under FOR FURTHER INFORMATION CONTACT for assistance in understanding and participating in this rulemaking. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in the preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order, because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph 34(h), of the Instruction, from further environmental documentation. Under figure 2-1, paragraph (34)(h), of the Instruction, an “Environmental Analysis Check List” and a “Categorical Exclusion Determination” are not required for this rule.

List of Subjects in 33 CFR Part 100

Marine safety, Navigation (water), Reporting and recordkeeping requirements, Waterways.

For the reasons set out in the preamble, the Coast Guard amends 33 CFR part 100 as follows:

PART 100—[MARINE EVENTS]

1. The authority citation for Part 100 continues to read as follows:

Authority: 33 U.S.C. 1233; Department of Homeland Security Delegation No. 0170.1.

2. Add § 100.35T-07-151 to read as follows:

§ 100.35T-07-151 2003 Holiday Boat Parade of the Palm Beaches, Riviera Beach, FL

(a) Regulated areas. (1) The regulated staging area encompasses all waters within the Lake Worth Inlet, Port of Palm Beach, turning basin, west of a line connecting Marker 12 on the north side of the turning basin and Marker 13 on the south side of the turning basin.

(2) The regulated parade area encompasses all waters of the Intracoastal Waterway from Lake Worth South Section Marker 1 behind Peanut Island north to Lake Worth Creek Marker 19 at Jonathan's Landing Marina.

(b) Coast Guard patrol commander. The Coast Guard patrol commander is a commissioned, warrant, or petty officer of the Coast Guard who has been designated by Commander, Coast Guard Group Miami, Florida.

(c) Special local regulations. (1) Staging areas. Entry or anchoring in the staging area by non-participating vessels is prohibited, unless authorized by the Coast Guard patrol commander.

(2) Parade route. During the transit of parade vessels, non-participating vessels are prohibited from approaching within 500 feet ahead of the lead parade vessel, 500 feet astern of the last participating vessel in the parade, or within 50 feet either side of the outboard parade vessels, unless authorized by the Coast Guard patrol commander.

(d) Effective period: This section is effective from 6 p.m. until 9 p.m. on December 6, 2003.

Dated: November 25, 2003.
Harvey E. Johnson, Jr.,
Rear Admiral, U.S. Coast Guard, Commander, Seventh Coast Guard District.

[FR Doc. 03-30278 Filed 12-4-03; 8:45 am]

BILLING CODE 4910-15-P